NATIONAL FOUNDATION OF THE ARTS AND THE HUMANITIES

Institute of Museum and Library Services

46th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

Dates and Time: The meeting will be held on December 14, 2022, from 10:30 a.m. until adjourned.

Place: The meeting will convene in a hybrid format. Virtual meeting and audio conference technology will be used to connect virtual attendees with in-person attendees. Instructions for joining will be sent to all registrants. In-person attendees will meet at 955 L'Enfant Plaza North SW, First-floor Conference Room, Washington, DC 20024. Due to room-capacity limitations, only board members and IMLS staff will be able to join in person.

FOR FURTHER INFORMATION CONTACT: Katherine Maas, Chief of Staff and Alternate Designated Federal Officer, Institute of Museum and Library Services, Suite 4000, 955 L'Enfant Plaza North SW, Washington, DC 20024; (202) 653-4798; kmaas@imls.gov (mailto:kmaas@imls.gov).

SUPPLEMENTARY INFORMATION: The National Museum and Library Services Board is meeting pursuant to the National Museum and Library Service Act, 20 U.S.C. 9105a, and the Federal Advisory Committee Act (FACA), as amended, 5 U.S.C. App.

The 46th Meeting of the National Museum and Library Services Board, which is open to the public, will be held on December 14, 2022.

The agenda for the 46th Meeting of the National Museum and Library Services Board will be as follows:

I. Call to Order

II. Approval of Minutes of the 45th Meeting

III. Director's Welcome and Update

IV. Board Program

V. Office of Museum Services Update

VI. Office of Library Services Update

VII. Strategic Communications Update

VIII. Office of Research and Evaluation Update

IX. Governmental Engagement and Legislative Update

X. Financial Update

If you wish to attend the meeting, please inform IMLS as soon as possible, but no later than noon on December 12, 2022, by contacting Katherine Maas at kmaas@imls.gov (mailto:kmaas@imls.gov). Please provide notice of any special needs or accommodations by November 29, 2022.

Dated: November 18, 2022.
Brianna Ingram,
Paralegal Specialist.

[FR Doc. 2022-25689 Filed 11-23-22; 8:45 am]

BILLING CODE 7036-01-P